DEPARTMENT OF THE INTERIOR

Fish and Wildlife Service

AGENCY: Fish and Wildlife Service, Interior.

ACTION: Notice of meeting.

SUMMARY: Pursuant to section 10(a)(2) of the Federal Advisory Committee Act (5 U.S.C. App. I), this notice announces a meeting of the Klamath River Basin Fisheries Task Force, established under the authority of the Klamath River Basin Fishery Resources Restoration Act (16 U.S.C. 460ss et seq.). The meeting is open to the public.

DATES: The Klamath River Basin Fisheries Task Force (Task Force) will meet from 8 a.m. to 5 p.m. on Wednesday, October 18, 2000 and from 8 a.m. to 3:20 p.m. on Thursday, October 19, 2000.

PLACE: The meeting will be held at the Best Western Miner's Inn, 122 East Miner Street Yreka, California.

FOR FURTHER INFORMATION CONTACT: Dr. Ronald A. Iverson, Project Leader, U.S. Fish and Wildlife Service, 1829 South Oregon Street, Yreka, California 96097, telephone (530) 842-5763.

SUPPLEMENTARY INFORMATION: For background information on the Task Force, please refer to the notice of their initial meeting that appeared in the Federal Register on July 8, 1987 (52 FR 25639).

Dated: September 8, 2000.
Elizabeth H. Stevens,
Acting California/Nevada Operations Manager, California/Nevada Office, U.S. Fish and Wildlife Service.

[FR Doc. 00-24369 Filed 9-21-00; 8:45 am]

BILLING CODE 4310-55-P